DEPARTMENT OF THE INTERIOR

Office of the Secretary

Invasive Species Advisory Committee

AGENCY: Office of the Secretary, Interior.

ACTION: Notice of publc meeting of the Invasive Species Advisory Committee.

SUMMARY: Pursuant to the provisions of the Federal Advisory Committee Act, notice is hereby given of a meeting of the Invasive Species Advisory Committee. The purpose of the Advisory Committee is to provide advice to the Council, as authorized by Executive Order 13112, on a broad array of issues related to preventing the introduction of invasive species and providing for their control and minimizing the economic, ecological, and human health impacts that invasive species cause. The Council is Co-chaired by the Secretary of the Interior, the Secretary of Agriculture, and the Secretary of Commerce. The duty of the Council is to provide national leadership regarding invasive species issues. The purpose of a meeting on August 2 and 3 is to convene the full Advisory Committee and receive input on the first draft of the National Invasive Species Management Plan. The meeting will be open to the public. Attendance will be limited to space available.

DATES: Meeting of Invasive Species Advisory Committee: 9 a.m., Wednesday, August 2, 2000 and Thursday, August 3, 2000.

ADDRESSES: Warwick Hotel, 401 Lenora Street, Seattle, WA 98121. The meeting will be in the Cambridge Room.

FOR FURTHER INFORMATION CONTACT: Kelsey Passé, National Invasive Species Council Program Assistant; Email: kelsey_passe@ios.doi.gov; Phone: (202) 208-6336; Fax: (202) 208-1526. Further information is also available at www.invasivespecies.gov.

Dated: July 10, 2000.
Gordon Brown,
National Invasive Species Council.

[FR Doc. 00-17861 Filed 7-13-00; 8:45 am]

BILLING CODE 4310-RK-M